DEPARTMENT OF TRANSPORTATION

Federal Aviation Administration

14 CFR Part 71

[Airspace Docket No. 99-ANM-13]

RIN 2120-AA66

Modification of Multiple Federal Airways in the Vicinity of Bellingham, WA

AGENCY: Federal Aviation Administration (FAA), DOT.

ACTION: Final rule

SUMMARY: This action amends the legal descriptions of four Federal airways that use the Bellingham, WA, Very High Frequency Omnidirectional Range/Tactical Air Navigation (VORTAC) in their route structure. Currently, the VORTAC and the International Airport share the “Bellingham” name. The fact that the VORTAC is approximately nine nautical miles (NM) north of the airport has led to confusion among users: to eliminate this confusion, the Bellingham VORTAC will be renamed the “Whatcom VORTAC,” and all the airways with “Bellingham VORTAC” included in their legal descriptions will be amended to reflect the VORTAC's name change.

EFFECTIVE DATE: 0901 UTC, April 20, 2000.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

The Rule

This action amends 14 CFR part 71 by changing the legal descriptions of four Federal airways that have “Bellingham VORTAC” included as part of their route structure. Currently, the VORTAC and the International Airport share the “Bellingham” name. The fact that the VORTAC is approximately nine NM north of the airport has led to confusion among users. To eliminate this confusion, the Bellingham VORTAC will be renamed the “Whatcom VORTAC,” and all the airways with “Bellingham VORTAC” included in their legal descriptions will be amended to reflect the VORTAC's name change. The name change of the VORTAC will coincide with the effective date of this rulemaking action.

Since this action merely involves editorial changes to the legal descriptions of the four Federal airways, and does not involve a change in the dimensions or operating requirements of the airways, notice and public procedure under 5 U.S.C. 553(b) are unnecessary.

Domestic VOR Federal Airways are published in paragraph 610(a) of FAA Order 7400.9G, Airspace Designations and Reporting Points, dated September 1, 1999 and effective September 16, 1999.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E, AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

Paragraph 6010(a)—Domestic VOR Federal Airways

* * * * *

* * * * *

V-23 [Revised]

From Mission Bay, CA; Oceanside, CA; 24 miles, 6 miles wide, Seal Beach, CA; 6 miles wide, INT Seal Beach 287° and Los Angeles, CA, 138° radials; Los Angeles; Gorman, CA; Shafter, CA; Clovis, CA; 53 miles, 6 miles wide, Linden, CA; Sacramento, CA; INT Sacramento 346° and Red Bluff, CA, 158° radials; Red Bluff; 58 miles, 95 MSL, Fort Jones, CA; Rogue Valley, OR; Eugene, OR; Battle Ground, WA; INT Battle Ground 350° and Seattle, WA, 197° radials; 21 miles, 45 MSL, Seattle; Paine, WA; Whatcom, WA; via INT Whatcom 290° radial to the United States/Canadian border.

V-165 [Revised]

From Mission Bay, CA; INT Mission Bay 270° and Oceanside, CA, 177° radials; Oceanside; 24 miles, 6 miles wide, Seal Beach, CA; 6 miles wide, INT Seal Beach 287° and Los Angeles, CA, 138° radials; Los Angeles; INT Los Angeles 357° and Lake Hughes, CA, 154° radials; Lake Hughes; INT Lake Hughes 344° and Shafter, CA, 137° radials; Shafter; Porterville, CA; INT Porterville 339° and Clovis, CA, 139° radials; Clovis; 68 miles, 50 miles, 131 MSL, Mustang, NV; 40 miles, 12 AGL, 7 miles, 115 MSL, 54 miles, 135 MSL, 81 miles, 12 AGL, Lakeview, OR; 5 miles, 72 miles, 90 MSL, Deschutes, OR; 16 miles, 19 miles, 95 MSL, 24 miles, 75 MSL, 12 miles, 65 MSL, Newberg, OR; 32 miles, 45 MSL, INT Newberg 355° and Olympia, WA, 195° radials; Olympia; Penn Cove, WA; to Whatcom, WA.

* * * * *

V-349 [Revised]

From Whatcom, WA, to Williams Lake, BC, Canada. The airspace within Canada is excluded.

* * * * *

V-1495 [Revised]

From Abbotsford, BC, NDB, Canada, via Whatcom, WA; Victoria, BC, Canada; via Seattle, WA; Battle Ground, WA; Newberg, OR; Corvallis, OR; INT Corvallis 195° and Roseburg, OR 355° radials; Roseburg; INT Roseburg 174° and Fort Jones, CA 340° radials, to Fort Jones. The airspace within Canada is excluded.

* * * * *

Issued in Washington, DC, on February 1, 2000.
Reginald C. Matthews,
Manager, Airspace and Rules Division.

[FR Doc. 00-2771 Filed 2-17-00; 8:45 am]

BILLING CODE 4910-13-M